DEPARTMENT OF TRANSPORTATION

Federal Aviation Administration

Supplement to Notice of Interim Operating Authority Granted to Commercial Air Tour Operators Over National Parks and Tribal Lands Within or Abutting National Parks

AGENCY: Federal Aviation Administration (FAA).

ACTION: Supplemental notice.

SUMMARY: This document supplements the Notice of Interim Operating Authority (IOA) Granted to Commercial Air Tour Operators Over National Parks and Tribal Lands Within or Abutting National Parks, which was published in the Federal Register on Thursday, June 23, 2005, (70 FR 36456). The June 23rd notice informs the public and seeks comment on operators who have received IOA and the number of allocations for each operator on a per park basis. This supplemental notice informs the public when comments to the June 23rd notice are due and republishes the IOA by park instead of by operator.

DATES: This supplement is effective September 20, 2005.

FOR FURTHER INFORMATION CONTACT: Gene Kirkendall, Flight Standards Service, Federal Aviation Administration, 800 Independence Ave., SW., Washington, DC 20591; telephone (202) 385-4510; e-mail: Gene.Kirkendall@Faa.gov.

SUPPLEMENTARY INFORMATION:

Background:

The Notice of Interim Operating Authority was issued pursuant to a statutory mandate in the National Park Air Tour Management Act, section 803, and recodified in Title 14 CFR 136.11(b)(3). These sections state that Interim Operating Authority (IOA) must be published in the Federal Register to provide notice and opportunity for comment. A comment end date was inadvertently left out of the Notice. Additionally, the FAA received comments after publication requesting that the FAA republish the IOA by park instead of by operator.

Supplemental Notice: The listing of all operators who have received IOA is republished by park. All comments to Notice No. 70 FR 36456 must be submitted in writing by October 31, 2005. Comments should be submitted to the person listed under FOR FURTHER INFORMATION CONTACT.

National park/abutting Tribal land | Operator name | DBA | IOA auth/yr
Acadia National Park | Bar Harbor Aviation |  | 2000
| Columbia Air Services-BHB LLC |  | 2585
Arches National Park | Adams, Bruce M | Southwest Safaris | 57
| Aero-Copters of Arizona, Inc | Helivision, Canyon Airlines, Bryce Canyon Helicopters, Bryce Canyon Airlines | 10
| Air Grand Canyon Inc |  | 8
| American Aviation, Inc | Frog Air, American Air Charter | 137
| Arrow West Aviation | Redtail Aviation | 57
| Grand Canyon Airlines, Inc | Grand Canyon Airlines | 4
| Makarion Air | Makarion Air | 10
| Maverick Helicopters, Inc |  | 15
| Papillon Airways Inc. | Papillon Grand Canyon Helicopters, Grand Canyon Helicopters | 12
| Slickrock Air Guides, Inc |  | 323
| Swanstrom, Paul N | Mountain Flying Service | 50
| Windrock Aviation Inc | Windrock Aviation, Windrock Airlines, Sky Eye Air Tours | 2
Aztec Ruins National Monument | Adams, Bruce M | Southwest Safaris | 83
| Makarion Air | Makarion Air | 5
Badlands National Park and Pine Ridge Indian Reservation | Badger Helicopters Inc |  | 4099
Bandelier National Monument | Adams, Bruce M | Southwest Safaris | 126
Big Bend National Park | Adams, Bruce M | Southwest Safaris | 5
Big Cypress National Preserve | Gretzke, Robert C | Wings | 1260
Big Cypress Seminole Tribal Lands | Gretzke, Robert C | Wings | 200
Biscayne National Park | Gretzke, Robert C | Wings | 200
Black Canyon of The Gunnison National Park | Adams, Bruce M | Southwest Safaris | 7
| Makarion Air | Makarion Air | 1
Blackfeet Tribal Lands | Kruger, James W | Kruger Helicopter Service | 750
| Minuteman Aviation Inc |  | 717
| Montana By Air L L C |  | 12
| Red Eagle Aviation, Inc |  | 159
Bryce Canyon National Park | Adams, Bruce M | Southwest Safaris | 23
| Aero-Copters of Arizona, Inc | Helivision, Canyon Airlines, Bryce Canyon Helicopters, Bryce Canyon Airlines | 1481
| Air Grand Canyon Inc |  | 15
| American Aviation, Inc | Frog Air, American Air Charter | 138
| Grand Canyon Airlines, Inc | Grand Canyon Airlines | 211
| Heli USA Airways, INC | Heli USA | 6
| King Airelines Inc |  | 12
| Las Vegas Helicopters Inc |  | 12
| Makarion Air | Makarion Air | 40
| Maverick Helicopters, Inc |  | 15
| Papillon Airways Inc | Papillon Grand Canyon Helicopters, Grand Canyon Helicopters | 12
| Scenic Airlines, Inc. |  | 1094
| Steve Winters d/b/a M & S Aero | M & S Aero | 326
| Sundance helicopters Inc | Sundance Helicopters, Helicopter Services, Helicop Tours | 12
| Westwind Aviation, Inc | Westwind Air Service | 130
| Windrock Aviation Inc | Windrock Aviation, Windrock Airlines, Sky Eye Air Tours | 1
Canyon De Chelly National Monument | Adams, Bruce M | Southwest Safaris | 147
| Air Grand Canyon Inc |  | 9
| American Aviation, Inc | Frog Air, American Air Charter | 14
| Grand Canyon Airlines, Inc | Grand Canyon Airlines | 5
| Makarion Air | Makarion Air | 8
| Windrock Aviation Inc | Windrock Aviation, Windrock Airlines, Sky Eye Air Tours | 2
Canyonlands National Park | Adams, Bruce M | Southwest Safaris | 57
| Aero-Copters of Arizona, Inc | Helivision, Canyon Airlines, Bryce Canyon Helicopters, Bryce Canyon Airlines | 10
| Air Grand Canyon Inc |  | 10
| American Aviation, Inc | Frog Air, American Air Charter | 137
| Arrow West Aviation | Redtail Aviation | 404
| Grand Canyon Airlines, Inc | Grand Canyon Airlines | 20
| Makarion Air | Makarion Air | 40
| Maverick Helicopters, Inc |  | 15
| Papillon Airways Inc | Papillon Grand Canyon Helicopters, Grand Canyon Helicopters | 12
| Slickrock Air Guides, Inc |  | 323
| Swanstrom, Paul N | Mountain Flying Service | 50
| Windrock Aviation Inc | Windrock Aviation, Windrock Airlines, Sky Eye Air Tours | 1
Cape Hatteras National Seashore | Burrus FlightSeeing Service |  | 1500
| Dairy Air Inc | Outer Banks Airways | 6500
| Platt, Phil | Pelican Airways | 170
Capitol Reef National Park | Adams, Bruce M | Southwest Safaris | 57
| Air Grand Canyon Inc |  | 2
| American Aviation, Inc | Frog Air, American Air Charter | 136
| Arrow West Aviation | Redtail Aviation | 63
| Grand Canyon Airlines, Inc | Grand Canyon Airlines | 6
| Makarion Air | Makarion Air | 25
| Maverick Helicopters, Inc |  | 15
| Papillon Airways Inc | Papillon Grand Canyon Helicopters, Grand Canyon Helicopters | 5
| Swanstrom, Paul N | Mountain Flying Service | 50
Capulin Volcano National Monument | Adams, Bruce M | Southwest Safaris | 13
Carlsbad Caverns National Park | Adams, Bruce M | Southwest Safaris | 18
| Makarion Air | Makarion Air | 1
Casa Grande Ruins National Monument | Adams, Bruce M | Southwest Safaris | 6
| Makarion Air | Makarion Air | 25
Cedar Breaks National Monument | Adams, Bruce M | Southwest Safaris | 15
| Air Grand Canyon Inc |  | 9
| American Aviation, Inc | Frog Air, American Air Charter | 27
| King Airelines Inc |  | 12
| Maverick Helicopters, Inc |  | 15
| Windrock Aviation Inc | Windrock Aviation, Windrock Airlines, Sky Eye Air Tours | 1
Chaco Culture National Historic Park | Adams, Bruce M | Southwest Safaris | 147
Channel Islands National Park | Makarion Air | Makarion Air | 5
Chiricahua National Monument | Makarion Air | Makarion Air | 1
Colonial National Historical Park | Jamestown Flight Center |  | 147
Colorado National Monument | Adams, Bruce M | Southwest Safaris | 57
Coronado National Memorial | Adams, Bruce M | Southwest Safaris | 5
| Makarion Air | Makarion Air | 5
Death Valley National Park | Courtney Aviation, Inc | Courtney Aviation | 4
| Heli USA Airways, INC | Heli USA | 6
| King Airelines Inc |  | 12
| Las Vegas Helicopters Inc |  | 12
| Makarion Air | Makarion Air | 40
| Maverick Helicopters, Inc |  | 15
| Papillon Airways Inc | Papillon Grand Canyon Helicopters, Grand Canyon Helicopters | 12
| Sundance Helicopters Inc | Sundance Helicopters, Helicopter Services, Helicop Tours | 6
Devils Postpile National Monument | McClelland, John and Terri | S.F. Helicopter Tours | 2900
Dinosaur National Monument | Adams, Bruce M | Southwest Safaris | 9
| Makarion Air | Makarion Air | 2
Dry Tortugas National Park | Gretzke, Robert C | Wings | 100
El Malpais National Monument | Adams, Bruce M | Southwest Safaris | 43
El Morro National Monument | Adams, Bruce M | Southwest Safaris | 43
Everglades National Park | Gretzke, Robert C | Wings | 674
Fort Bowie National Historic Site | Adams, Bruce M | Southwest Safaris | 5
Fort Davis National Historic Site | Adams, Bruce M | Southwest Safaris | 5
Fort Point National Historic Site | McClelland, John and Terri | S.F. Helicopter Tours | 2900
Fort Union National Monument | Adams, Bruce M | Southwest Safaris | 32
Gila Cliff Dwellings National Monument | Adams, Bruce M | Southwest Safaris | 26
Glacier National Park | Kruger, James W | Kruger Helicopter Service | 750
| Minuteman Aviation Inc |  | 717
| Montana By Air L L C |  | 12
| Osprey Aero |  | 60
| Red Eagle Aviation, Inc |  | 159
| Selway Aviation LLC |  | 20
| Wilson Aviation, LLC |  | 60
Glacier National Park and Blackfeet Tribal Land | Homestead Helicopters, Inc |  | 15
Glen Canyon National Recreation Area | Adams, Bruce M | Southwest Safaris | 123
| Aero-Copters of Arizona, Inc | Helivision, Canyon Airlines, Bryce Canyon Helicopters, Bryce Canyon Airlines | 39
| Air Grand Canyon Inc |  | 65
| American Aviation, Inc | Frog Air, American Air Charter | 462
| Arrow West Aviation | Redtail Aviation | 63
| Grand Canyon Airlines, Inc | Grand Canyon Airlines | 5429
| King Airelines Inc |  | 12
| Makarion Air | Makarion Air | 40
| Maverick Helicopters, Inc |  | 15
| Papillon Airways Inc | Papillon Grand Canyon Helicopters, Grand Canyon Helicopters | 48
| Scenic Airlines, Inc |  | 3153
| Slickrock Air Guides, Inc |  | 323
| Steve Winters d/b/a M & S Aero | M & S Aero | 10
| Swanstrom, Paul N | Mountain Flying Service | 50
| Westwind Aviation, Inc | Westwind Air Service | 4270
| Windrock Aviation Inc | Windrock Aviation, Windrock Airlines, Sky Eye Air Tours | 12
Golden Gate National Recreation Area | Makarion Air | Makarion Air | 40
| McClelland, John and Terri | S.F. Helicopter Tours | 11600
Golden Spike National Historic Site | American Aviation, Inc | Frog Air, American Air Charter | 11
Governors Island National Monument | Liberty Helicopters, Inc |  | 29432
Grand Teton National Park | American Aviation, Inc | Frog Air, American Air Charter | 8
| Maverick Helicopters, Inc |  | 15
| Montana Aircraft, Inc | Wings of Montana, Montana Aircraft | 6
| Spirit Mountain Aviation LLC |  | 45
Great Basin National Park | Makarion Air | Makarion Air | 25
Great Sand Dunes National Park & Preserve | Adams, Bruce M | Southwest Safaris | 16
| Makarion Air | Makarion Air | 3
Great Smoky Mountain National Park and Cherokee Tribal Lands | Great Smoky Mountain Helicopter, Inc | Smoky Mountain Helicopters, M Helicopters of TN, Delta Helicopters, Cherokee Helicopters | 120
Great Smoky Mountains National Park | Rambo Helicopter Charter, Inc | Scenic Helicopter Tours | 1800
Guadalupe Mountains National Park | Adams, Bruce M | Southwest Safaris | 18
Haleakala National Park | Alika Aviation, Inc | Alexair | 2923
| Aris, Inc | Air Maui Helicopter Tours | 3996
| Call Air, Inc | Eco Air Tours—Hawaii | 104
| Hawaii Helicopters, Inc |  | 5682
| Helicopter Consultants of Maui, Inc | Blue Hawaiian Helicopters | 8348
| Maui Island Air, Inc | Volcano Air Tours, Maui Air | 130
| Paragon Air, Inc |  | 219
| Rainbow Pacific Helicopters, Ltd | Magnum Helicopters | 45
| Schuman Aviation Company, Ltd | Makani Kai Helicopters | 25
| Sunshine Helicopters, Inc |  | 4853
Havasupai Tribal Lands | American Aviation, Inc | Frog Air, American Air Charter | 14
| Maverick Helicopters, Inc |  | 15
Hawaii Volcanoes National Park | Above It All, Inc | Sporty's Academy Hawaii, Hawaii Island Hoppers, Hawaii Airventures, Benchmark Flight Center | 3878
| Big Island Air, Inc |  | 1643
| Call Air, Inc | Eco Air Tours—Hawaii | 102
| Hawaii Helicopters, Inc |  | 141
| Helicopter Consultants of Maui, Inc | Blue Hawaiian Helicopters | 12413
| K & S Helicopters, Inc | Tropical Helicopters | 1684
| Manuiwa Airways, Inc. | Volcano Helicopters, Volcano Heli-Tours | 800
| Maui Island Air, Inc. | Volcano Air Tours, Maui Air | 611
| Mokulele Flight Service, Inc |  | 60
| Paragon Air, Inc. |  | 1019
| Rainbow Pacific Helicopters, Ltd | Magnum Helicopters | 45
| Safari Aviation, Inc. | Safari Helicopter Tours | 3920
| Schuman Aviation Company, Ltd. | Makani Kai Helicopters | 25
| Sunshine Helicopters, Inc |  | 2100
Hohokam Pima National Monument | Adams, Bruce M | Southwest Safaris | 5
Hopi Tribal Lands | American Aviation, Inc | Frog Air, American Air Charter | 14
Hovenweep National Monument | Adams, Bruce M | Southwest Safaris | 63
| Air Grand Canyon Inc |  | 2
| American Aviation, Inc | Frog Air, American Air Charter | 27
Hualapai Tribal Lands | American Aviation, Inc | Frog Air, American Air Charter | 14
Hubbell Trading Post National Historic Site | Adams, Bruce M | Southwest Safaris | 27
John Muir National Historic Site | Makarion Air | Makarion Air | 40
| McClelland, John and Terri | S.F. Helicopter Tours | 2900
Joshua Tree National Park | Makarion Air | Makarion Air | 25
Kalaupapa National Historic Park | Call Air, Inc. | Eco Air Tours—Hawaii | 198
| Paragon Air, Inc. |  | 730
| Rainbow Pacific Helicopters, Ltd | Magnum Helicopters | 45
| Schuman Aviation Company, Ltd | Makani Kai Helicopters | 25
| Sunshine Helicopters, Inc |  | 1252
Kaloko-Honokohau National Historical Park¹ | Call Air, Inc. | Eco Air Tours—Hawaii | 37
| Rainbow Pacific Helicopters, Ltd. | Magnum Helicopters | 45
| Schuman Aviation Company, Ltd | Makani Kai Helicopters | 25
Lake Chelan National Recreation Area | Lake Chelan Air Service Inc | Chelan Airways | 350
| Wings of Wenatchee, Inc |  | 15
Lake Mead and Parashant National Recreation Area and National Monument | Adams, Bruce M | Southwest Safaris | 38
| Air Grand Canyon Inc |  | 24
| American Aviation, Inc | Frog Air, American Air Charter | 3
| Aviation Ventures, Inc | Vision Aviation Management, LLC, Vision Air | 6756
| Grand Canyon Airlines, Inc | Grand Canyon Airlines | 257
| Heli USA Airways, Inc. | Heli USA | 7463
| King Airelines Inc |  | 4380
| Las Vegas Helicopters Inc |  | 1376
| Maverick Helicopters, Inc |  | 9603
| Papillon Airways Inc | Papillon Grand Canyon Helicopters, Grand Canyon Helicopters | 11322
| Rogers Helicopters Inc | Sky Life, Rogers Aviation, ROAM, Hall Air Ambulance Service, Inc., Dam Helicopter Company, Inc | 9000
| Scenic Airlines, Inc. |  | 14707
| Sundance Helicopters Inc | Sundance Helicopters, Helicopter Services, Helicop Tours | 865
| Windrock Aviation Inc | Windrock Aviation, Windrock Airlines, Sky Eye Air Tours | 5
| Laughlin Aviation LLC |  | 3015
Lake Roosevelt National Recreation Area | Wings of Wenatchee, Inc |  | 12
Lassen Volcanic National Park | English, Daniel B | Mt. Lassen Aviation | 89
| Makarion Air | Makarion Air | 5
Lava Beds National Monument | Makarion Air | Makarion Air | 1
Mesa Verde National Park | Adams, Bruce M | Southwest Safaris | 63
| Makarion Air | Makarion Air | 10
Mojave National Preserve | Makarion Air | Makarion Air | 3
| Maverick Helicopters, Inc |  | 15
Montezuma Castle National Monument | Adams, Bruce M | Southwest Safaris | 19
| Air Grand Canyon Inc |  | 5
| Grand Canyon Airlines Inc | Grand Canyon Airlines | 156
| Makarion Air | Makarion Air | 10
| Windrock Aviation Inc | Windrock Aviation, Windrock Airlines, Sky Eye Air Tours | 5
Monument Valley Navajo Tribal Park | Makarion Air | Makarion Air | 50
| Maverick Helicopters, Inc |  | 15
| Scenic Airlines, Inc |  | 1303
Mount Rainier National Park | Classic Helicopter Corporation |  | 32
| Island Air, Inc |  | 2
| Natures Designs, Inc | Vashon Island Air | 74
| Pavco, Inc |  | 60
| Rite Bros Aviation Inc |  | 2
| Wings of Wenatchee, Inc |  | 3
Mount Rushmore National Memorial | Black Hills Aerial Adventures, Inc |  | 363
| Rushmore Helicopters, Inc |  | 5200
Muir Woods National Monument | McClelland, John and Terri | S.F. Helicopter Tours | 2900
Natural Bridges National Monument | Adams, Bruce M | Southwest Safaris | 9
| Air Grand Canyon Inc |  | 6
| American Aviation, Inc | Frog Air, American Air-Charter | 28
| Arrow West Aviation | Redtail Aviation | 67
| Makarion Air | Makarion Air | 5
| Maverick Helicopters, Inc |  | 15
| Swanstrom, Paul N. | Mountain Flying Service | 50
Navajo National Monument | Adams, Bruce M | Southwest Safaris | 57
| Air Grand Canyon Inc |  | 11
| American Aviation, Inc | Frog Air, American Air Charter | 14
| Grand Canyon Airlines, Inc | Grand Canyon Airlines | 185
| Makarion Air | Makarion Air | 50
Navajo Tribal Lands | Aero-Copters of Arizona, Inc | Helivision, Canyon Airlines, Bryce Canyon Helicopters, Bryce Canyon Airlines | 38
| Amercian Aviation Inc | Frog Air, American Air Charter | 16
| Slickrock Air Guides, Inc |  | 323
| Swanstrom, Paul N. | Mountain Flying Service | 50
| Westwind Aviation, Inc | Westwind Air Service | 2664
North Cascades National Park | Island Air, Inc |  | 10
| Lake Chelan Air Service Inc | Chelan Airways | 50
| Rite Bros Aviation Inc |  | 2
| Wings of Wenatchee, Inc |  | 10
Olympic National Park | Island Air, Inc |  | 10
| Natures Designs, Inc | Vashon Island Air | 26
| Pavco, Inc |  | 27
| Rite Bros Aviation Inc |  | 76
Organ Pipe Cactus National Monument | Adams, Bruce M | Southwest Safaris | 5
Pecos National Historic Park | Adams, Bruce M | Southwest Safaris | 32
Petrified Forest National Park | Adams, Bruce M | Southwest Safaris | 42
| Air Grand Canyon Inc |  | 4
| American Aviation, Inc | Frog Air, American Air Charter | 14
| Makarion Air | Makarion Air | 10
Petroglyph National Monument | Adams, Bruce M | Southwest Safaris | 45
Pipe Spring National Monument | Adams, Bruce M | Southwest Safaris | 23
| Air Grand Canyon Inc |  | 3
Point Reyes National Seashore | McClelland, John and Terri | S.F. Helicopter Tours | 2900
Pu'uhonua O Hoanunau National Historical Park. ² | Call Air, Inc | Eco Air Tours—Hawaii | 37
| Rainbow Pacific Helicopters, Ltd | Magnum Helicopters | 45
| Schuman Aviation Company, Ltd | Makani Kai Helicopters | 25
Puukohola Heiau National Historic Site ³ | Call Air, Inc | Eco Air Tours—Hawaii | 88
| Rainbow Pacific Helicopters, Ltd | Magnum Helicopters | 45
| Schuman Aviation Company, Ltd | Makani Kai Helicopters | 25
Rainbow Bridge National Monument | Adams, Bruce M | Southwest Safaris | 52
| Air Grand Canyon Inc |  | 40
| American Aviation, Inc | Frog Air, American Air Charter | 138
| Grand Canyon Airlines, Inc | Grand Canyon Airlines | 4472
| King Airelines Inc |  | 12
| Makarion Air | Makarion Air | 50
| Maverick Helicopters, Inc |  | 15
| Scenic Airlines, Inc |  | 1303
| Westwind Aviation, Inc | Westwind Air Service | 4140
| Windrock Aviation Inc | Windrock Aviation, Windrock Airlines, Sky Eye Air Tours | 3
Redwood National and State Parks | McClelland, John and Terri | S.F. Helicopter Tours | 2900
Rio Grande Wild and Scenic River | Adams, Bruce M | Southwest Safaris | 5
Rosie the Riveter WWII Home Front National Historical Park | McClelland, John and Terri | S.F. Helicopter Tours | 2900
Sagauro National Park | Adams, Bruce M | Southwest Safaris | 5
| Air Grand Canyon Inc |  | 13
| Makarion Air | Makarion Air | 10
| Windrock Aviation Inc | Windrock Aviation, Windrock Airlines, Sky Eye Air Tours | 2
Salinas Pueblo Missions National Monument | Adams, Bruce M | Southwest Safaris | 17
| Makarion Air | Makarion Air | 1
San Francisco Maritime National Historical Park | Makarion Air | Makarion Air | 40
| McClelland, John and Terri | S.F. Helicopter Tours | 2900
San Juan Island National Historical Park | Island Air, Inc |  | 20
Santa Monica Mountains National Recreation Area | Makarion Air | Makarion Air | 5
Sequoia & Kings Canyon National Parks | Courtney Aviation Inc | Courtney Aviation | 10
| Makarion Air | Makarion Air | 5
Statue of Liberty National Monument | Helicopter Flight Services, Inc |  | 3500
| Liberty Helicopters, Inc |  | 29432
| New York Helicopter Charter, Inc |  | 2655
| North East Air and Sea Services LLC |  | 125
| Ventura Air Services, Inc |  | 125
Sunset Crater Volcano National Monument | Adams, Bruce M | Southwest Safaris | 37
| Air Grand Canyon Inc |  | 26
| American Aviation, Inc | Frog Air, American Air Charter | 14
| Grand Canyon Airlines, Inc | Grand Canyon Airlines | 17
| Makarion Air | Makarion Air | 20
| Windrock Aviation Inc | Windrock Aviation, Windrock Airlines, Sky Eye Air Tours | 4
Timpanogos Cave National Monument | American Aviation, Inc | Frog Air, American Air Charter | 254
Tonto National Monument | Makarion Air | Makarion Air | 2
Tumacacori National Historic Park | Adams, Bruce M | Southwest Safaris | 5
Tuzigoot National Monument | Adams, Bruce M | Southwest Safaris | 19
| Air Grand Canyon Inc |  | 38
| Windrock Aviation Inc | Windrock Aviation, Windrock Airlines, Sky Eye Air Tours | 5
U S S Arizona Memorial ⁴ | Call Air, Inc | Eco Air Tours—Hawaii | 198
| Paragon Air, Inc |  | 18
| Rainbow Pacific Helicopters, Ltd | Magnum Helicopters | 1500
| Schuman Aviation Company, Ltd | Makani Kai Helicopters | 2100
Voyageurs National Park | Van Air, Inc |  | 60
Walnut Canyon National Monument | Adams, Bruce M | Southwest Safaris | 37
| Air Grand Canyon Inc |  | 11
| Makarion Air | Makarion Air | 5
| Windrock Aviation Inc | Windrock Aviation, Windrock Airlines, Sky Eye Air Tours | 1
Wupatki National Monument | Adams, Bruce M | Southwest Safaris | 42
| Air Grand Canyon Inc |  | 4
| American Aviation, Inc | Frog Air, American Air Charter | 14
Yellowstone National Park | American Aviation, Inc | Frog Air, American Air Charter | 8
| Carisch Helicopters Inc |  | 20
| Makarion Air | Makarion Air | 3
| Montana Aircraft, Inc | Wings of Montana, Montana Aircraft | 60
| Spirit Mountain Aviation LLC |  | 45
Yellowstone National Park and adjacent tribal land | Homestead Helicopters, Inc |  | 15
Yosemite National Park | Courtney Aviation, Inc | Courtney Aviation | 100
| Maverick Helicopters, Inc |  | 15
Yucca House National Monument | Adams, Bruce M | Southwest Safaris | 63
| Makarion Air | Makarion Air | 1
Zion National Park | Adams, Bruce M | Southwest Safaris | 15
| Aero-Copters of Arizona, Inc | Helivision, Canyon Airlines, Bryce Canyon Helicopters, Bryce Canyon Airlines | 26
| Air Grand Canyon Inc |  | 25
| American Aviation, Inc | Frog Air, American Air Charter | 29
| Grand Canyon Airlines, Inc | Grand Canyon Airlines | 3
| Heli USA Airways, Inc | Heli USA | 6
| King Airelines Inc |  | 12
| Las Vegas Helicopters Inc |  | 12
| Makarion Air | Makarion Air | 40
| Maverick Helicopters, Inc |  | 15
| Papillon Airways Inc | Papillon Grand Canyon Helicopters, Grand Canyon Helicopters | 12
| Scenic Airlines, Inc |  | 547
| Steve Winters d/b/a M & S Aero | M & S Aero | 25
| Sundance Helicopters Inc | Sundance Helicopters, Helicopter Services, Helicop Tours | 12
| Windrock Aviation Inc | Windrock Aviation, Windrock Airlines, Sky Eye Air Tours | 3
¹ Subsequent to the June 23, 2005 notice, each of the listed air tour operators formally withdrew their application for commercial air tour operating authority for this park unit. FAA has responded by removing this park from the operator's Interim Operating Authority. No commercial air tour operations are currently authorized over this park unit.
² Subsequent to the June 23, 2005 notice, each of the listed air tour operators formally withdrew their application for commercial air tour operating authority for this park unit. FAA has responded by removing this park from the operator's Interim Operating Authority. No commercial air tour operations are currently authorized over this park unit.
³ See note 2 above.
⁴ The National Parks Air Tour Management Act of 2000 and Title 14, Code of Federal Regulations, Part 136.3(d)(1)(i) excepts operations conducted solely for the purposes of takeoff or landing from the definition of a commercial air tour operation. Subsequent to the June 23, 2005 notice, each of the listed air tour operators formally withdrew their applications for commercial air tour operating authority for this park unit. The FAA has responded by removing the Memorial from each of the operator's Interim Operating Authority (IOA).

Dated: September 20, 2005.
James J. Ballough,
Director, Flight Standards Service.

[FR Doc. 05-20185 Filed 10-6-05; 8:45 am]

BILLING CODE 4910-13-P